DEPARTMENT OF TRANSPORTATION

Federal Railroad Administration

[Docket Number FRA-2022-0095]

Notice of Application for Approval of Discontinuance or Modification of a Railroad Signal System

Under part 235 of title 49 Code of Federal Regulations (CFR) and 49 U.S.C. 20502(a), this document provides the public notice that on October 17, 2022, and November 16, 2022, Amtrak petitioned the Federal Railroad Administration (FRA) seeking approval to discontinue or modify a signal system. FRA assigned the petition Docket Number FRA-2022-0095.

Specifically, Amtrak requests permission to remove automatic wayside signals between Park Interlocking at milepost (MP) 46.3 and Roy Interlocking at MP 94.3 on Amtrak's Mid-Atlantic Division, from Main Line Philadelphia to Harrisburg Northeast Corridor. In its petition, Amtrak explains that formerly, the automatic wayside signals served as distant signals to the existing interlockings. However, as Amtrak has fully implemented positive train control, which imposes “updated standards for cab, no-wayside signal territory to remove all automatic signals[,] including distant signals,” Amtrak seeks permission to remove 10 signals (at MPs 55.3, 59.2, 64.5, 66.1, 70.8, 71.8, 81.5, 86.0, 92.3, and 96.4). Amtrak states that the removal of the signals will “eliminate maintenance and operation of unnecessary hardware [that is] no longer needed.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by February 6, 2023 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-26551 Filed 12-6-22; 8:45 am]

BILLING CODE 4910-06-P